DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (301) 443-7978.

The Annual Census of Patient Characteristics in State and County Mental Hospital Inpatient Services (0930-0093, Extension)—The Census, which is conducted by SAMHSA's Center for Mental Health Services (CMHS), is a complete enumeration of all State and county mental hospitals and collects aggregate information by age, gender, race/ethnicity and diagnosis for each State on the number of additions during the year and resident patients who are physically present for 24 hours per day in the inpatient service at the end of the reporting year. First conducted in 1840, the Census has provided information throughout the years that is not available from any other sources. The Census is the primary means within CMHS for assessing de-institutionalization practices of State and county mental hospitals. The annual burden estimate is shown in the table below.

Respondents | Responses/respondent | Average burden/response | Total response burden | Total burden hours
Computer Printout | 50 | 1 | .67 hr. | 34 hrs.
Manual retrieval and completion | 2 | 1 | 2 hrs | 4 hrs.
Total | 52 |  |  | 38 hrs

Written comments and recommendations concerning the proposed information collection should be sent within 30 days of this notice to: Lauren Wittenberg, Human Resources and Housing Branch, Office of Management and Budget, New Executive Office Building, Room 10235, Washington, DC 20503; due to potential delays in OMB's receipt and processing of mail sent through the U.S. Postal Service, respondents are encouraged to submit comments by fax to: 202-395-6974.

Dated: September 5, 2003.
Anna Marsh,
Acting Executive Officer, SAMHSA.

[FR Doc. 03-23159 Filed 9-10-03; 8:45 am]

BILLING CODE 4162-20-P